DEPARTMENT OF ENERGY

Federal Energy Regulatory Commission

[Project No. 13305-002]

Whitestone Power and Communications; Notice of Technical Teleconference To Discuss Information and Monitoring Needs for a License Application for a Pilot Project

a. Type of Application: Draft License Application for Pilot Project.

b. Project No.: 13305-002.

c. Applicant: Whitestone Power and Communications (Whitestone).

d. Name of Project: Microturbine Hydrokinetic River-In-Stream Energy Conversion Power Project (also known as the Whitestone Poncelet RISEC Project).

e. Location: On the Tanana River near Delta Junction, Alaska.

f. Filed Pursuant to: 18 CFR 5.3 of the Commission's regulations.

g. Applicant Contact: Steven M. Selvaggio, Whitestone Power and Communications, P.O. Box 1630, Delta Junction, Alaska 99737; (907) 895-4938.

h. FERC Contact: Dianne Rodman, (202) 502-6077 or dianne.rodman@ferc.gov.

i. Project Description: The proposed Microturbine Hydrokinetic River-In-Stream Energy Conversion Power Project would consist of: (1) A 12-foot-wide, 16-foot-diameter Poncelet undershot water wheel; (2) a 34-foot-long, 19- to 24-foot-wide aluminum-frame floatation platform mounted on a 34-foot-long, 3.5-foot-diameter high-density- polyethylene (HDPE) pontoon and a 34-foot-long, 3-foot-diameter HDPE pontoon; (3) a 100-kilowatt turbine/generator unit; (4) a 33-foot-long, 3.5-foot-wide gangway from the shore to the floating pontoon; (5) three anchoring cables to secure the flotation platform to the shore, including a 30-foot-long primary safety tether, a 117-foot-long primary cable, and a 100-foot-long secondary cable; (6) an approximately 900-foot-long transmission cable from the floatation platform to an existing Golden Valley Electric Association distribution line; and (7) appurtenant facilities. The project is anticipated to operate from April until October, with an estimated annual generation of 200 megawatt-hours.

j. Meeting Purpose and Schedule: On August 22, 2011, Whitestone filed (1) A notice of intent to file an application for an original license for a hydrokinetic pilot project and a draft license application; (2) a request for waivers of the integrated licensing process regulations necessary for expedited processing of a hydrokinetic pilot project license application; (3) a proposed process plan and schedule; (4) a request to be designated as the non-federal representative for section 7 of the Endangered Species Act consultation; and (5) a request to be designated as the non-Federal representative for section 106 consultation under the National Historic Preservation Act.

Commission staff will hold a technical teleconference with Whitestone to discuss the project proposal, pilot licensing process, and additional information and monitoring needs for the license application. During the teleconference, Commission staff will focus the discussion on the information gaps that need to be addressed to ensure that sufficient information exists for the Commission to make a determination on whether the proposed project meets the criteria for a pilot project and for processing a license application for a pilot project once it is filed with the Commission.

All local, state, and Federal agencies, Native Alaskan tribal entities, and other interested parties are invited to participate by phone. The date and time of the teleconference are as follows:

Monday, November 7, 2011, starting at 1 p.m. and ending no later than 4 p.m. (Eastern Standard Time).

Please call Dianne Rodman by October 31, 2011, to RSVP and to receive specific instructions on how to participate.

Dated: October 7, 2011.
Kimberly D. Bose,
Secretary.

[FR Doc. 2011-26597 Filed 10-13-11; 8:45 am]

BILLING CODE 6717-01-P